DEPARTMENT OF ENERGY

Federal Energy Regulatory Commission

Combined Notice of Filings.

Take notice that the Commission has received the following Natural Gas Pipeline Rate and Refund Report filings:

Filings Instituting Proceedings

Docket Numbers: PR15-31-000.

Applicants: APL SouthTex Transmission Company LP.

Description: Submits tariff filing per 284.123(e)/.224: TPL SouthTex Transmission Company LP—Name Change to be effective 3/1/2015; Filing Type: 770.

Filed Date: 3/20/15.

Accession Number: 20150320-5218.

Comments/Protests Due: 5 p.m. ET 4/10/15.

Docket Numbers: RP15-680-000.

Applicants: Southern Star Central Gas Pipeline, Inc.

Description: § 4(d) rate filing per 154.204: Vol 2—Non-Conforming Agreement—Tenaska Marketing Ventures to be effective 4/1/2015.

Filed Date: 3/25/15.

Accession Number: 20150325-5055.

Comments Due: 5 p.m. ET 4/6/15.

Docket Numbers: RP15-681-000.

Applicants: MIGC LLC.

Description: Compliance filing per 154.203: Order No. 801 Compliance Filing to be effective 4/24/2015.

Filed Date: 3/25/15.

Accession Number: 20150325-5081.

Comments Due: 5 p.m. ET 4/6/15.

Docket Numbers: RP15-682-000.

Applicants: Great Lakes Gas Transmission Limited Par.

Description: Compliance filing per 154.203: Compliance to Order 801—Docket No. RM14-21-000 to be effective 6/1/2015.

Filed Date: 3/25/15.

Accession Number: 20150325-5121.

Comments Due: 5 p.m. ET 4/6/15.

Docket Numbers: RP15-683-000.

Applicants: TC Offshore LLC.

Description: Compliance filing per 154.203: Compliance to Order 801—Docket No. RM14-21-000 to be effective 6/1/2015.

Filed Date: 3/25/15.

Accession Number: 20150325-5123.

Comments Due: 5 p.m. ET 4/6/15.

Docket Numbers: RP15-684-000.

Applicants: Pine Prairie Energy Center, LLC.

Description: Compliance filing per 154.203: Pine Prairie Energy Center, LLC—Order No. 801 Compliance Filing to be effective 4/1/2015.

Filed Date: 3/25/15.

Accession Number: 20150325-5124.

Comments Due: 5 p.m. ET 4/6/15.

Docket Numbers: RP15-685-000.

Applicants: SG Resources Mississippi, L.L.C.

Description: Compliance filing per 154.203: SG Resources Mississippi, L.L.C.—Order No. 801 Compliance Filing to be effective 4/1/2015.

Filed Date: 3/25/15.

Accession Number: 20150325-5125.

Comments Due: 5 p.m. ET 4/6/15.

Docket Numbers: RP15-686-000.

Applicants: Bluewater Gas Storage, LLC.

Description: Compliance filing per 154.203: Bluewater Gas Storage, LLC—Order No. 801 Compliance Filing to be effective 4/1/2015.

Filed Date: 3/25/15.

Accession Number: 20150325-5126.

Comments Due: 5 p.m. ET 4/6/15.

Docket Numbers: RP15-687-000.

Applicants: Garden Banks Gas Pipeline, LLC.

Description: Compliance filing per 154.203: Map Compliance Filing to be effective 5/1/2015.

Filed Date: 3/25/15.

Accession Number: 20150325-5158.

Comments Due: 5 p.m. ET 4/6/15.

Docket Numbers: RP15-688-000.

Applicants: Mississippi Canyon Gas Pipeline, L.L.C.

Description: Compliance filing per 154.203: Map Compliance Filing to be effective 5/1/2015.

Filed Date: 3/25/15.

Accession Number: 20150325-5159.

Comments Due: 5 p.m. ET 4/6/15.

Docket Numbers: RP15-689-000.

Applicants: Nautilus Pipeline Company, L.L.C.

Description: Compliance filing per 154.203: Revise System Map in Compliance with RM14-21 to be effective 5/1/2015.

Filed Date: 3/25/15.

Accession Number: 20150325-5167.

Comments Due: 5 p.m. ET 4/6/15.

Docket Numbers: RP15-690-000.

Applicants: Tuscarora Gas Transmission Company.

Description: Compliance filing per 154.203: Compliance to Order 801—Docket No. RM14-21-000 to be effective 6/1/2015.

Filed Date: 3/25/15.

Accession Number: 20150325-5189.

Comments Due: 5 p.m. ET 4/6/15.

Docket Numbers: RP15-691-000.

Applicants: Gas Transmission Northwest LLC.

Description: Compliance filing per 154.203: Compliance to Order 801—Docket No. RM14-21-000 to be effective 6/1/2015.

Filed Date: 3/25/15.

Accession Number: 20150325-5218.

Comments Due: 5 p.m. ET 4/6/15.

Docket Numbers: RP15-692-000.

Applicants: USG Pipeline Company, LLC.

Description: Compliance filing per 154.203: Order No. 801 map compliance filing to be effective 4/24/2015.

Filed Date: 3/25/15.

Accession Number: 20150325-5220.

Comments Due: 5 p.m. ET 4/6/15.

Docket Numbers: RP15-693-000.

Applicants: B-R Pipeline Company.

Description: Compliance filing per 154.203: Order No. 801 map compliance filing to be effective 4/24/2015.

Filed Date: 3/25/15.

Accession Number: 20150325-5221.

Comments Due: 5 p.m. ET 4/6/15.

Docket Numbers: RP15-694-000.

Applicants: Guardian Pipeline, L.L.C.

Description: § 4(d) rate filing per 154.204: PAL Negotiated Rate Agreement—Koch Energy Services, L.L.C. to be effective 3/27/2015.

Filed Date: 3/25/15.

Accession Number: 20150325-5238.

Comments Due: 5 p.m. ET 4/6/15.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2015.
Nathaniel J. Davis, Sr.,
Deputy Secretary.

[FR Doc. 2015-07930 Filed 4-6-15; 8:45 am]

BILLING CODE CODE 6717-01-P